DEPARTMENT OF ENERGY

Federal Energy Regulatory Commission

Notice of Commission Staff Attendance

The Federal Energy Regulatory Commission (Commission) hereby gives notice that members of the Commission's staff may attend the following meetings related to the transmission planning activities of Tucson Electric Power Company, UNS Electric, Inc., Public Service Company of New Mexico, Arizona Public Service Company, El Paso Electric Company, Black Hills Power, Inc., Black Hills Colorado Electric Utility Company, LP, Cheyenne Light, Fuel, & Power Company, NV Energy, Inc.; and Xcel Energy Services, Inc. on behalf of Public Service Company of Colorado:

WestConnect Stakeholder Meeting

February 14, 2018, 12:30 p.m.-4 p.m. (MST)

Planning Management Committee Meeting

April 11, 2018, 9 a.m.-3 p.m. (MST)

The February 14, 2018 WestConnect Stakeholder Meeting will be held at: Pera Club, 1 E Continental Dr., Tempe, AZ 85281.

The April 11, 2018 Planning Management Committee Meeting will be held at: TSGT Offices, 1100 W 116th Ave., Westminster, CO 80234.

The above-referenced meetings will be available via web conference and teleconference.

The above-referenced meetings are open to stakeholders.

Further information may be found at http://www.westconnect.com/.

The discussions at the meetings described above may address matters at issue in the following proceeding: ER13-75, Public Service Comapny of New Mexico; El Paso Electric Company.

For more information contact Nicole Cramer, Office of Energy Market Regulation, Federal Energy Regulatory Commission at (202) 502-6775 or nicole.cramer@ferc.gov.

Dated: February 9, 2018.
Kimberly D. Bose,
Secretary.

[FR Doc. 2018-03205 Filed 2-15-18; 8:45 am]

BILLING CODE 6717-01-P